DEPARTMENT OF ENERGY

Office of Fossil Energy

[FE Docket No. 01-70-NG 01-74-NG 01-71-NG 01-73-NG 01-75-NG 01-81-NG 01-63-NG 01-78-NG 90-09-NG 01-82-NG 00-61-NG 01-77-NG 01-80-NG 01-79-NG]

Orders Granting, Amending, and Transferring Authority To Import and Export Natural Gas; San Diego Gas & Electric Co.; et al.

AGENCY: Office of Fossil Energy, DOE.

ACTION: Notice of orders.

SUMMARY: The Office of Fossil Energy (FE) of the Department of Energy gives notice that during November 2001, it issued Orders granting, amending, and transferring authority to import and export natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, D.C. 20585, (202) 586-9478. The Docket Room is open between the hours of 8 a.m. and 4:30 p.m., Monday through Friday, except Federal holidays.

Issued in Washington, DC, on December 11, 2001.
Thomas W. Dukes,
Acting Manager, Natural Gas Regulation, Office of Natural Gas & Petroleum Import & Export Activities, Office of Fossil Energy.

Appendix—Orders Granting, Amending, and Transferring Import/Export Authorizations

DOE/FE Authority
Order No. | Date issued | Importer/Exporter Fe Docket No. | Import volume | Export volume | Comments
1733 | 11-8-01 | San Diego Gas & Electric Company 01-70-NG | 74 Bcf |  | Import natural gas from Canada beginning on December 1, 2001, and extending through November 30, 2003.
1734 | 11-8-01 | Western Gas Resources, Inc. 01-74-NG | 73 Bcf | 73 Bcf | Import and export natural gas from and to Canada, beginning on November 26, 2001, and extending through November 25, 2003.
1735 | 11-9-01 | Ontario Energy Savings Corp. 01-71-NG | 200 Bcf |  | Import and export a combined total of natural gas from and to Canada, beginning on November 1, 2001, and extending through October 31, 2003.
1736 | 11-13-01 | Crestar Energy marketing Corp. 01-73-NG | 100 Bcf |  | Import and export a combined total of natural gas from and to Canda, beginning on July 11, 2001, and extending through July 10, 2003.
1737 | 11-15-01 | Toronto Hydro Energy Services 01-75-NG | 3 Bcf | 3 Bcf | Import and export natural gas from and to Canada, beginning on December 1, 2001, and ending on November 30, 2003.
1738 | 11-27-01 | Murphy Gas Gathering Inc. 01-81-NG | 75 Bcf |  | Import natural gas from Canada, beginning on December 12, 2001, and extending through November 30, 2003.
1723-A | 11-27-01 | PC&E Energy Trading, Canada Corporation 01-63-NG |  | 150 Bcf | Amendment to import authority to include exports of natural gas to Canada, over a two-year term beginning on the date of first delivery of either the import or export.
1739 | 11-29-01 | UtiliCorp United Inc. 01-78-NG | 200 Bcf |  | Import natural gas from Canada, beginning on January 1, 2002, and extending through December 31, 2003.
551-F | 11-29-01 | USGen New England, Inc. 90-09-NG | Amendment of volumes |  | Reduction in volumes in long-term authority from 35,000 Mcf per day to 8,137 Mcf per day.
1740 | 11-29-01 | Wisconsin Public Service Corporation 01-82-NG | 6 Bcf |  | Import natural gas from Canada, beginning on September 1, 2001, and extending through August 31, 2003.
1623-A | 11-30-01 | Aquila, Inc. (Successor to Aquila Energy Marketing Corporation) 00-61-NG | Transfer of authority |  | Transfer of authority and name change.
1741 | 11-30-01 | Mirant Americas Energy Marketing LP 01-77-NG | 730 Bcf |  | Import and export natural gas from and to Canada, beginning on December 1, 2001, and extending through November 3, 2003.
1742 | 11-30-01 | Direct Energy Marketing Limited 01-80-NG | 400 Bcf |  | Import and export natural gas from and to Canada, over a two-year term beginning on the date of first import or export.
1743 | 11-30-01 | William Energy Marketing & Trading Company 01-79-NG | 200 Bcf |  | Import natural gas from Canada, beginning on November 1, 2001, and extending through October 31, 2003.

[FR Doc. 01-30982 Filed 12-14-01; 8:45 am]

BILLING CODE 6450-01-P